DEPARTMENT OF AGRICULTURE

Food and Nutrition Service

Agency Information Collection Activities: Proposed Collection, Comment Request—Food Stamp Program: Federal Collection of State Plan of Operations, Operating Guidelines and Forms

AGENCY: Food and Nutrition Service, USDA.

ACTION: Notice.

SUMMARY: In accordance with the Paperwork Reduction Act of 1995, the Food and Nutrition Service (FNS) is publishing for public comment, a summary of a proposed information collection. The proposed collection is a revision of a collection currently approved under OMB No. 0584-0083.

DATES: Comments on this notice must be received by August 18, 2003, to be assured of consideration.

ADDRESSES: Send comments and requests for copies of this information collection to Barbara Hallman, Chief, State Administration Branch, Food Stamp Program, Food and Nutrition Service, USDA, 3101 Park Center Drive, Alexandria, VA 22302.

Comments are invited on: (a) Whether the proposed collection of information is necessary for the proper performance of the functions of the Agency, including whether the information will have practical utility; (b) the accuracy of the Agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All comments will be summarized and included in the request for Office of Management and Budget approval of the information collection. All comments will become a matter of public record.

FOR FURTHER INFORMATION CONTACT: Barbara Hallman, telephone number (703) 305-2383.

SUPPLEMENTARY INFORMATION: Title: Operating Guidelines, Forms and Waivers.

OMB Number: 0584-0083.

Expiration Date: December 2005.

Type of Request: Revision of a currently approved collection.

Abstract: In accordance with section 11(e) of the Food Stamp Act of 1977 (the Act), 7 U.S.C. 2020(e), State agencies are required to submit a Plan of Operation specifying the manner in which the Food Stamp Program will be conducted. The State Plan of Operations, in accordance with current rules at 7 CFR 272.2, consists of a Federal/State Agreement, annual budget and activity statements, and specific attachments (such as plans if the State elects to conduct program information activities or provide nutrition educational services). State Plans of Operation are a one-time effort with updates that are provided as necessary.

Under section 16 of the Act, 7 U.S.C. 2025, the Secretary is authorized to pay each State agency an amount equal to 50 percent of all administrative costs involved in each State agency's operation of the FSP. Under corresponding FSP regulations at 7 CFR 272.2, the State agencies must submit annually to FNS for approval, a Budget Projection Statement (Form FNS-366A), which projects the total costs for major areas of FSP operations, and a Program Activity Statement (Form FNS-366B), which provides a summary of FSP operations during the preceding fiscal year. The reports are required to substantiate the costs the State agency expects to incur during the next fiscal year. Form FNS-366A is submitted annually by August 15, for the upcoming fiscal year and Form FNS-366B must be submitted no later than 45 days after the end of each State agency's fiscal year.

FNS is proposing to add a new category of information to the FNS-366A to report data on Employment and Training (E&T) grants for able-bodied adults without dependent children (ABAWDs). Section 4121(b) of the Farm Security and Rural Reinvestment Act of 2002, Public Law 107-171, which was signed into law on May 13, 2002, gave FNS $20 million in new 100% funds (the ABAWD grants). FNS has determined that it needs the new category of information on the FNS-366A to separately track these funds in its budget information system. The funds benefit ABAWD food stamp recipients (who are subject to a 3-month time limit for FSP participation) to help them get jobs. The funding amount is allocated by FNS to the State agency for the ABAWD grant. Because the funding amount figure for this item is provided by FNS, the impact on the burden is negligible, and so there is no additional burden for this as a budget item. The FNS-366A data for this item will allow FNS to compare this budget item against actual expenditures.

Beginning July 1997, State agencies were allowed to submit the FNS-366B data electronically to the national database files stored in FNS' FSP Integrated Information System in lieu of a paper report. The voluntary changeover from paper to electronic reporting of FNS-366B data by States was done as part of FNS' State Cooperative Data Exchange (SCDEX) Project. This project is being expanded over time as more FNS forms are transformed to electronic formats for State data entry. As of February 2003, a total of nine State agencies submitted the FNS-366B data electronically and 44 State agencies submitted paper reports.

Under section 11(o) of the Act, 7 U.S.C. 2020(o), each State agency was required to develop a plan, no later than October 1, 1987, for implementing an automated data processing (ADP) and information retrieval system to administer the FSP. Corresponding FSP regulations at 7 CFR 277.18 require that a written plan of action, called an Advance Planning Document (APD), be prepared to acquire proposed ADP services, systems or equipment. The frequency of the APD submission is at the discretion of the State agency.

Under section 7(i) of the Act, 7 U.S.C. 2016(i), the Secretary is authorized to permit State agencies to implement on-line electronic benefit transfer (EBT) systems. The Secretary is authorized to establish standards for the required testing prior to implementation of any EBT system and analysis of the results of implementation in a limited pilot project area before expansion of the system. Any State requesting funding for an EBT system must submit an APD.

Respondents: State agencies that administer the FSP.

Number of Respondents: 53.

Estimated Number of Responses per Respondent: Plan of Operation Updates: 53 State agencies once a year.

Form FNS-366A: 53 State agencies once a year.

Form FNS-366B: 53 State agencies once a year.

Advance Planning Documents: 15 State agencies once a year.

Advance Planning Documents for EBT Systems: 10 State agencies once a year.

EBT Reporting: 41 State agencies reporting four times a year.

Estimate of Burden: Plan of Operation Updates: The State agencies submit Plan updates at an estimate of 10 hours per respondent, or 530 total hours.

Form FNS-366A: The State agencies submit Form FNS-366A at an estimate of 13 hours per respondent, or 689 total hours.

Form FNS-366B: The total burden for the collection of information for Form FNS-366B is 18 hours per respondent, or 954 hours.

Outreach Plans: We estimate that up to 25 States may submit an Outreach Plan over the next year at an estimate of 1 hour per respondent or 25 total hours.

PRWORA Plan Updates: We estimate 34 States will choose one or more options, and thus will have to respond, at an average .25 hours per response, or a total burden of 8.5 hours.

Advance Planning Documents: Approximately 15 State agencies submit an APD each year at an estimate of 10 hours per respondent or 150 total hours.

Advance Planning Documents for EBT Systems: Approximately ten State agencies submit an APD each year for an EBT system at an estimate of 35 hours per respondent, or 350 total hours.

EBT Reporting: None.

Estimated Total Annual Burden on Respondents: The total annual reporting and recordkeeping burden for OMB No. 0584-0083 is estimated to be 2,707 hours, a decrease of 225 hours from the previous estimate and currently approved burden of 2,932 hours. The decrease in the burden is due to a decrease in the number of States who submit an APD and the time to complete an APD.

Dated: June 11, 2003.
Roberto Salazar,
Administrator.

[FR Doc. 03-15350 Filed 6-17-03; 8:45 am]

BILLING CODE 3410-30-U